DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Assistant Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Pope County, Arkansas, and Incorporated Areas
Docket No.: FEMA-B-1028
Arkansas River | At the intersection with the Arkansas Avenue bridge | +323 | Unincorporated Areas of Pope County.
| At the confluence with Lake Dardanelle | +340
Lake Dardanelle | Approximately 8.323 miles downstream of the Highway 40 bridge | +340 | Unincorporated Areas of Pope County, City of Russellville.
| At the intersection with the Pleasant View Road bridge | +347
Whig Creek | Approximately 5,166 feet from South Frankfort Avenue | +330 | Unincorporated Areas of Pope County, City of Russellville.
| Approximately 218 feet downstream of McHenry Road | +340
* National Geodetic Vertical Datum.
+ North American Vertical Datum.
# Depth in feet above ground.
‸ Mean Sea Level, rounded to the nearest 0.1 meter.
ADDRESSES
City of Russellville
Maps are available for inspection at 716 North El Paso Avenue, Russellville, AR 72801.
Unincorporated Areas of Pope County
Maps are available for inspection at 420 North Hampton Avenue, Suite B, Russellville, AR 72801.
Forrest County, Mississippi, and Incorporated Areas
Docket No.: FEMA-B-1016
Black Creek | At the Forrest/Perry county boundary | +140 | Unincorporated Areas of Forrest County.
| At the Lamar/Forrest county boundary | +205
Boggy Branch | At the confluence with Greens Creek | +172 | Unincorporated Areas of Forrest County, City of Petal.
| Approximately 2,870 feet upstream of Otis Lee Road | +233
Gordons Creek | Just upstream of West Street | +159 | City of Hattiesburg.
| Approximately 2,260 feet upstream of Interstate 59 | +252
Greens Creek | At Chappell Hill Road | +171 | Unincorporated Areas of Forrest County, City of Petal.
| Approximately 4,220 feet upstream of Robertson Road | +242
Little Beaver Creek | Approximately 2,820 feet downstream of Churchwell Road | +187 | Unincorporated Areas of Forrest County.
| At the Lamar/Forrest county boundary | +237
Mixons Creek | At U.S. Route 49 | +163 | City of Hattiesburg.
| At I-59 | +176
| Approximately 120 feet upstream of I-59 | +176
| Approximately 380 feet upstream of I-59 | +176
| Approximately 2,080 feet downstream of West 4th Street | +193
Mixons Creek Tributary 1 | Approximately 2,900 feet upstream of Dogwood Cove | +197 | City of Hattiesburg.
| Approximately 3,800 feet upstream of Dogwood Cove | +204
Mixons Creek Tributary 2 | Approximately 118 feet downstream of Spring Hill Drive | +190 | City of Hattiesburg.
| Approximately 1,460 feet upstream of Bridges Circle | +208
Mixons Creek Tributary 4 | Just upstream of Joy Drive | +196 | City of Hattiesburg.
| Approximately 1.8 mile upstream of Joy Drive | +283
Unnamed Tributary 2 | Approximately 111 feet downstream of Hillcrest Loop | +149 | City of Petal.
| Approximately 335 feet upstream of Chandler Lane | +188
* National Geodetic Vertical Datum.
+ North American Vertical Datum.
# Depth in feet above ground.
‸ Mean Sea Level, rounded to the nearest 0.1 meter.
ADDRESSES
City of Hattiesburg
Maps are available for inspection at City Hall, 200 Forrest Street, Hattiesburg, MS 39401.
City of Petal
Maps are available for inspection at City Hall, 107 West 8th Avenue, Petal, MS 39401.
Unincorporated Areas of Forrest County
Maps are available for inspection at the Forrest County Courthouse, 629 Main Street, Hattiesburg, MS 39401.
Lamar County, Mississippi, and Incorporated Areas
Docket No.: FEMA-B-1018
Gordons Creek | At I-59 | +252 | Unincorporated Areas of Lamar County.
| Approximately 1,984 feet upstream of I-59 | +252
Little Beaver Creek | Approximately 0.8 mile downstream of Browns Bridge Road | +227 | Unincorporated Areas of Lamar County.
| Approximately 210 feet upstream of Browns Bridge Road | +237
Mill Creek No. 1 | Approximately 1,800 feet downstream of Hardie Road | +260 | Unincorporated Areas of Lamar County, Town of Sumrall.
| Approximately 1.6 mile upstream of State Highway 42 | +313
Mixons Creek Tributary 3 | Approximately 935 feet upstream of the confluence with Mixons Creek | +187 | Unincorporated Areas of Lamar County.
| Approximately 1.5 mile upstream of the confluence with Mixons Creek | +235
* National Geodetic Vertical Datum.
+ North American Vertical Datum.
# Depth in feet above ground.
‸ Mean Sea Level, rounded to the nearest 0.1 meter.
ADDRESSES
Town of Sumrall
Maps are available for inspection at the Town Hall, 4880 Highway 589, Sumrall, MS 39482.
Unincorporated Areas of Lamar County
Maps are available for inspection at the County Administrator's Office, 403 Main Street, Purvis, MS 39475.
Cortland County, New York (All Jurisdictions)
Docket No.: FEMA-B-7784
Blue Creek | At the confluence with Dry Creek | +1185 | Town of Cortlandville.
| Approximately 215 feet upstream of Kinney Gulf Road | +1204
Dry Creek | Approximately 720 feet downstream of North Main Street | +1116 | City of Cortland, Town of Cortlandville.
| Approximately 330 feet upstream of Kinney Gulf Road | +1211
Gridley Creek | At the confluence with the Tioughnioga River | +1044 | Town of Virgil.
| Approximately 1.8 mile upstream of Page Green Road | +1462
Gridley Creek Tributary 9 | At the confluence with Gridley Creek | +1354 | Town of Virgil.
| Approximately 1,915 feet upstream of State Route 392 | +1396
Gridley Creek Tributary 9-1 | At the confluence with Hope Lake | +1429 | Town of Virgil.
| Approximately 0.4 mile upstream of Clute Road | +1564
Hope Lake | Entire shoreline within the Town of Virgil | +1429 | Town of Virgil.
Mosquito Creek | Approximately 50 feet upstream of West Center Street | +1150 | Town of Cortlandville, Village of McGraw.
| Approximately 0.78 mile upstream of Heath Road | +1509
Otselic River | Approximately 991 feet downstream of Route 23 | +1034 | Town of Cincinnatus.
| Approximately 1.6 mile upstream of Telephone Road | +1053
Otter Creek | Approximately 130 feet upstream of North Main Street | +1121 | City of Cortland, Town of Cortlandville.
| Approximately 70 feet upstream of State Route 13 | +1186
Otter Creek Tributary 3 | At the confluence with Otter Creek | +1170 | Town of Cortlandville.
| Approximately 1,000 feet upstream of Gutchess Lumber Service Road | +1170
Skaneateles Lake | Entire shoreline within the Town of Scott | +867 | Town of Scott.
Song Lake | Entire shoreline within the Town of Preble | +1195 | Town of Preble.
Tioughnioga River Reach 2 | Approximately 0.58 mile downstream of Main Street | +1014 | Town of Marathon, Village of Marathon.
| Approximately 0.85 mile upstream of Main Street | +1023
Trout Brook | At Town of Solon Corporate Limits, approximately 1.280 mile upstream of Hollow Road | +1204 | Town of Solon.
| Approximately 1.288 mile upstream of Hollow Road | +1204
Tully Lake | Entire shoreline within the Town of Preble | +1195 | Town of Preble.
* National Geodetic Vertical Datum.
+ North American Vertical Datum.
# Depth in feet above ground.START
‸ Mean Sea Level, rounded to the nearest 0.1 meter.
ADDRESSES
City of Cortland
Maps are available for inspection at City Hall, 25 Court Street, Cortland, NY 13045.
Town of Cincinnatus
Maps are available for inspection at the Town Hall, 2770 Lower Cincinnatus Road, Cincinnatus, NY 13040.
Town of Cortlandville
Maps are available for inspection at the Cortlandville Town Hall, Raymond G. Thorpe Municipal Building, 3577 Terrace Road, Cortland, NY 13045.
Town of Marathon
Maps are available for inspection at the Town of Marathon Highway Department, 16 Brink Street, Marathon, NY 13803.
Town of Preble
Maps are available for inspection at the Town Hall, 1968 Preble Road, Preble, NY 13141.
Town of Scott
Maps are available for inspection at the Scott Town Hall, 6689 State Route 41, Homer, NY 13077.
Town of Solon
Maps are available for inspection at the Solon Town Hall, 4012 North Tower Road, East Freetown, NY 13040.
Town of Virgil
Maps are available for inspection at the Virgil Town Hall, 1176 Church Street, Cortland, NY 13045.
Village of Marathon
Maps are available for inspection at the Marathon Village Hall, 18 Tannery Street, Marathon, NY 13803.
Village of McGraw
Maps are available for inspection at the Village Hall, 1 Cemetery Street, McGraw, NY 13101.
Coshocton County, Ohio, and Incorporated Areas
Docket No.: FEMA-B-1020
Muskingum River | 170 feet upstream of the railroad crossing over the Muskingum River east of the Village of Conesville | +737 | Village of Conesville.
| 260 feet upstream of the railroad crossing over the Muskingum River east of the Village of Conesville | +737
* National Geodetic Vertical Datum.
+ North American Vertical Datum.
# Depth in feet above ground.
‸ Mean Sea Level, rounded to the nearest 0.1 meter.
ADDRESSES
Village of Conesville
Maps are available for inspection at the Coshocton County Engineer's Office, 23194 County Road 621, Coshocton, OH 43812.
Chippewa County, Wisconsin, and Incorporated Areas
Docket No.: FEMA-B-7799
Chippewa River | Just upstream of the Jim Falls Dam Powerhouse | +955 | Unincorporated Areas of Chippewa County, City of Cornell.
| Just downstream of the Cornell Dam | +980
* National Geodetic Vertical Datum.
+ North American Vertical Datum.
# Depth in feet above ground.
‸ Mean Sea Level, rounded to the nearest 0.1 meter.
ADDRESSES
City of Cornell
Maps are available for inspection at City Hall, 222 Main Street, Cornell, WI 54732.
Unincorporated Areas of Chippewa County
Maps are available for inspection at the Chippewa County Clerk's Office, 711 North Bridge Street, Room 109, Chippewa Falls, WI 54729.

(Catalog of Federal Domestic Assistance No. 97.022, “Flood Insurance.”)

Sandra K. Knight,
Deputy Assistant Administrator for Mitigation, Department of Homeland Security, Federal Emergency Management Agency.

[FR Doc. 2010-4070 Filed 2-25-10; 8:45 am]

BILLING CODE 9110-12-P